DEPARTMENT OF THE INTERIOR

Bureau of Land Management

[19X.LLAK930000.L13100000. EI0000.241A]

Notice of 2021 Coastal Plain Alaska Oil and Gas Lease Sale and Notice of Availability of the Detailed Statement of Sale

AGENCY: Bureau of Land Management, Interior.

ACTION: Notice of sale.

SUMMARY: The Bureau of Land Management (BLM) Alaska State Office will hold an oil and gas lease sale bid opening for tracts in the Coastal Plain of the Arctic National Wildlife Refuge.

DATES: The oil and gas lease sale bid opening will be at 10 a.m. Alaska Standard Time (AKST) on January 6, 2021. The BLM must receive all sealed bids by 4 p.m. AKST, Thursday, December 31, 2020. The Detailed Statement of Sale for the 2021 Coastal Plain Alaska Oil and Gas Lease Sale will be available to the public immediately after publication of this notice.

ADDRESSES: Sealed bids must be received at the BLM Alaska State Office, Attn: BLM Energy and Minerals Branch Chief; Bureau of Land Management, Alaska State Office, 222 West 7th Avenue, Mailstop 13, Anchorage, Alaska 99513-7504. The Detailed Statement of Sale for the 2021 Coastal Plain Alaska Oil and Gas Lease Sale will be available at the BLM Alaska website at https://www.blm.gov/alaska, and copies are available from the BLM Alaska Public Information Center (Public Room), 222 West 7th Avenue, Mailstop 13, Anchorage, Alaska 99513-7504; telephone 907-271-5960.

FOR FURTHER INFORMATION CONTACT: BLM Alaska Energy and Minerals Branch Chief, 907-271-4407. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The January 2021 Coastal Plain Alaska Oil and Gas Lease Sale will include tracts and acreage (no less than 400,000 acres) identified in the Detailed Statement of Sale and available for leasing under the Coastal Plain Oil and Gas Leasing Program Record of Decision issued in August 2020. The opening and reading of the bids for the 2021 Coastal Plain Alaska Oil and Gas Lease Sale will be available via video livestreaming at https://www.blm.gov/live. The Detailed Statement of Sale includes a description of the areas the BLM is offering for lease, as well as the lease terms, conditions, special stipulations, required operating procedures, and directions about how to submit bids. If you plan to submit one or more bids, please note that all bids must be sealed in accordance with the provisions identified in the Detailed Statement of Sale.

(Authority: Section 20001 of the Tax Cuts and Jobs Act (Public Law 115-97))

Chad B. Padgett,
State Director, Alaska.

[FR Doc. 2020-26788 Filed 12-4-20; 8:45 am]

BILLING CODE 4310-JA-P